DEPARTMENT OF HOMELAND SECURITY

Transportation Security Administration

Extension of Agency Information Collection Activity Under OMB Review: Aircraft Operator Security

AGENCY: Transportation Security Administration, DHS.

ACTION: 30-day notice.

SUMMARY: This notice announces that the Transportation Security Administration (TSA) has forwarded the Information Collection Request (ICR), OMB control number 1652-0003, abstracted below to the Office of Management and Budget (OMB) for review and approval of an extension of the currently approved collection under the Paperwork Reduction Act. The ICR describes the nature of the information collection and its expected burden. TSA published a Federal Register notice, with a 60-day comment period soliciting comments, of the following collection of information on March 16, 2010. 75 FR 12559. The collection requires aircraft operators to adopt and implement a TSA-approved security program. These programs require aircraft operators to maintain and update records to ensure compliance with security provisions outlined in 49 CFR part 1544.

DATES: Send your comments by June 25, 2010. A comment to OMB is most effective if OMB receives it within 30 days of publication.

ADDRESSES: Interested persons are invited to submit written comments on the proposed information collection to the Office of Information and Regulatory Affairs, Office of Management and Budget. Comments should be addressed to Desk Officer, Department of Homeland Security/TSA, and sent via electronic mail to oira_submission@omb.eop.gov or faxed to (202) 395-6974.

FOR FURTHER INFORMATION CONTACT: Joanna Johnson, TSA Paperwork Reduction Act (PRA) Officer, Office of Information Technology (OIT), TSA-11, Transportation Security Administration, 601 South 12th Street, Arlington, VA 20598-6011; telephone (571) 227-3651; e-mail TSAPRA@dhs.gov.

SUPPLEMENTARY INFORMATION:

Comments Invited

In accordance with the Paperwork Reduction Act of 1995 (44 U.S.C. 3501 et seq.), an agency may not conduct or sponsor, and a person is not required to respond to, a collection of information unless it displays a valid OMB control number. The ICR documentation is available at http://www.reginfo.gov. Therefore, in preparation for OMB review and approval of the following information collection, TSA is soliciting comments to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including using appropriate automated, electronic, mechanical, or other technological collection techniques or other forms of information technology.

Information Collection Requirement

1652-0003; Security Programs for Aircraft Operators, 49 CFR part 1544. TSA is seeking to renew its OMB control number, 1652-0003, Aircraft Operator Security. TSA uses the information collected to determine compliance with 49 CFR part 1544 and to ensure the freedom of movement for people and commerce by monitoring aircraft operator security procedures. TSA has implemented aircraft operator security standards at 49 CFR part 1544 to require all aircraft operators to which this part applies to adopt and implement a security program. These TSA-approved security programs establish procedures that aircraft operators must carry out to protect persons and property traveling on flights provided by the aircraft operator against acts of criminal violence, aircraft piracy, and the introduction of explosives, incendiaries, or weapons aboard an aircraft.

This information collection is mandatory for aircraft operators. As part of their security programs, affected aircraft operators are required to maintain and update, as necessary, records of compliance with the security program provisions set forth in 49 CFR part 1544, including compliance with applicable Security Directives. This regulation also requires affected aircraft operators to make their security programs and associated records available for inspection and copying by TSA to ensure transportation security and regulatory compliance.

The information TSA collects includes identifying information on aircraft operators' flight crews and passengers. The requirement encompasses vetting of the entire flight crew, other aircraft operator personnel, and all passengers. The passenger watch list checks currently conducted by aircraft operators will soon be taken over by TSA's Secure Flight program. Under this program, TSA will conduct the checks for the aircraft operators, which will reduce their burden as described in this ICR. (See OMB control number 1652-0046).

Aircraft operators are required to provide this information via electronic means. Aircraft operators with limited electronic systems may need to modify their current systems or generate a new computer system in order to submit the requested information but are not restricted to these means.

Part 1544 also requires aircraft operators to ensure that flight crew members and employees with unescorted access authority or who perform screening, checked baggage, or cargo functions submit to and receive a criminal history records check (CHRC). As part of the CHRC process, the individual must provide identifying information, including fingerprints. Additionally, aircraft operators must maintain these records and make them available to TSA for inspection and copying upon request.

Part 1544 also governs recordkeeping requirements for aircraft operators holding a full All-Cargo Standard Security Program; however, their hour burden has been separately reported under OMB control number 1652-0040.

Title: Aircraft Operator Security.

Type of Request: Extension of a currently approved collection.

OMB Control Number: 1652-0003.

Forms(s): N/A.

Affected Public: Aircraft Operators.

Abstract: 49 CFR part 1544 requires aircraft operators to maintain, update, and comply with TSA-approved comprehensive security programs to ensure the freedom of movement for people and commerce by monitoring aircraft operator security procedures. These programs and related records are subject to TSA inspection.

Number of Respondents: 796.

Estimated Annual Burden Hours: An estimated 1,841,130 hours annually.

Issued in Arlington, Virginia on May 20, 2010.
Joanna Johnson,
TSA Paperwork Reduction Act Officer, Office of Information Technology.

[FR Doc. 2010-12609 Filed 5-25-10; 8:45 am]

BILLING CODE 9110-05-P